DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Call Monitoring of National Suicide Prevention Lifeline Form—NEW

The Substance Abuse and Mental Health Services Administration's (SAMHSA), Center for Mental Health Services has funded a National Suicide Prevention Lifeline Network, consisting of a single toll-free telephone number that routes calls from anywhere in the United States to a network of local crisis centers. In turn, the local centers link callers to local emergency, mental health, and social service resources.

To ensure quality, the vast majority of crisis centers conduct on-site monitoring of selected calls by supervisors or trainers using unobtrusive listening devices. To monitor the quality of calls and to inform the development of training for networked crisis centers, the National Suicide Prevention Lifeline propose to remotely monitor calls routed to seven crisis centers during the shifts of consenting staff. The procedure will be anonymous, in that neither staff nor callers will be identified on the Call Monitoring Form. The monitor, a trained crisis worker, will code the type of problem presented by the caller, the elements of a suicide risk assessment that are completed by the crisis worker, as well as what action plan is developed with and/or what referral(s) are provided to the caller. No centers will be identified in reports.

During the shifts of consenting crisis staff, a recording will inform callers that some calls may be monitored for quality assurance purposes. Previous comparisons of matched centers that did and did not play the recording found no difference in hang-up rates before the calls were answered or within the first 15 seconds of the calls.

The seven centers to be monitored will be selected based on the geographic region(s) they serve. Once a center has agreed to participate, the crisis workers will be provided an Informed Consent Form describing the purpose and procedures of the monitoring process and inviting them to participate. The Form also informs workers that they are free to participate or not, that they may withdraw their acceptance to participate at any time, and that if they choose not to participate, no calls during their shift will be monitored.

A total of 180 calls will be monitored during the first 5-month period. One year later, an additional 360 calls will be monitored, yielding a total of 540 monitored calls.

The estimated annual response burden to collect this information is as follows:

Instrument | Number of respondents | Responses per respondent | Burden per response (Hrs). | Total burden
Informed Consent Form | 360 | 1 | .07 | 26
National Suicide Prevention Lifeline Call Monitoring Form | 6 | 60 | .33 | 238
Totals | 366 |  |  | 264

Written comments and recommendations concerning the proposed information collection should be sent by December 28, 2005 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: November 21, 2005.
Anna Marsh,
Director, Office of Program Services.

[FR Doc. 05-23366 Filed 11-25-05; 8:45 am]

BILLING CODE 4162-20-M